DEPARTMENT OF TRANSPORTATION

Federal Aviation Administration

14 CFR Part 39

[Docket No. FAA-2009-0781; Directorate Identifier 2009-NM-111-AD; Amendment 39-16004; AD 2009-18-08]

RIN 2120-AA64

Airworthiness Directives; Airbus Model A330-200 and -300 Series Airplanes, Model A340-200 and -300 Series Airplanes, and Model A340-541 and -642 Airplanes

AGENCY: Federal Aviation Administration (FAA), Department of Transportation (DOT).

ACTION: Final rule; request for comments.

SUMMARY: The FAA is adopting a new airworthiness directive (AD) for certain Airbus Model A330-200 and -300 series airplanes, Model A340-200 and -300 series airplanes, and Model A340-541 and -642 airplanes. This AD requires replacing certain Thales Avionics pitot probes with certain other pitot probes. This AD results from reports of airspeed indication discrepancies while flying at high altitudes in inclement weather conditions. We are issuing this AD to prevent airspeed discrepancies, which could lead to disconnection of the autopilot and/or auto-thrust functions, and reversion to flight control alternate law and consequent increased pilot workload. Depending on the prevailing airplane altitude and weather, this condition, if not corrected, could result in reduced control of the airplane.

DATES: This AD becomes effective September 8, 2009.

The Director of the Federal Register approved the incorporation by reference of certain publications listed in the AD as of September 8, 2009.

We must receive comments on this AD by October 5, 2009.

ADDRESSES: You may send comments by any of the following methods:

• Federal eRulemaking Portal: Go to http://www.regulations.gov/. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

The European Aviation Safety Agency (EASA), which is the Technical Agent for the Member States of the European Community, has issued a Notification of a Proposal to Issue an Airworthiness Directive (PAD), PAD 09-099, dated August 10, 2009 (referred to after this as “the EASA PAD”), to correct an unsafe condition for certain Airbus Model A330-200 and -300 series airplanes, Model A340-200 and -300 series airplanes, and Model A340-541 and -642 airplanes. The EASA PAD states that airspeed indication discrepancies have been reported on Model A330 and A340 airplanes while flying at high altitudes in inclement weather conditions. Investigation results indicate that these airplanes equipped with certain Thales Avionics pitot probes appear to have a greater susceptibility to adverse environmental conditions than certain other pitot probes.

The EASA PAD also states that a new Thales Avionics pitot probe having part number (P/N) C16195BA has been designed, which improves the airspeed indication behavior in heavy rain conditions on Model A320 airplanes. This same pitot probe standard has been made available as an optional installation on Model A330 and A340 airplanes, and although this has shown to be an improvement over the previous Thales Avionics pitot probe, P/N C16195AA standard, it has not yet demonstrated the same level of robustness to withstand high-altitude ice crystals as Goodrich pitot probes having P/N 0851HL.

We are issuing this AD to prevent airspeed discrepancies, which could lead to disconnection of the autopilot and/or auto-thrust functions, and reversion to flight control alternate law and consequent increased pilot workload. Depending on the prevailing airplane altitude and weather, this condition, if not corrected, could result in reduced control of the airplane.

Other Relevant Rulemaking

On February 4, 2004, we issued AD 2004-03-33, Amendment 39-13477 (69 FR 9936, March 3, 2004), for certain Airbus Model A300 B2 and B4 series airplanes; Model A300 B4-600, A300 B4-600R, and A300 F4-600R series airplanes (collectively called A300-600); Model A310 series airplanes; Model A319, A320, and A321 series airplanes; Model A330-301, -321, -322, -341, and -342 airplanes; and Model A340 series airplanes. Paragraphs (g)(1) and (h)(1) of that AD require, for some Model A330 and A340 airplanes, replacement of certain pitot probes with Goodrich pitot probes having P/N 0851HL. For other Model A330 and A340 airplanes, paragraphs (g)(2) and (h)(2) of that AD require replacement of certain pitot probes with Thales Avionics pitot probe having P/N C16195AA.

Relevant Service Information

Airbus has issued the service bulletins listed in the following table:

Table—Service Bulletins
Service Bulletin | Revision | Date
Airbus Mandatory Service Bulletin A330-34-3231 | Original | August 12, 2009.
Airbus Mandatory Service Bulletin A340-34-4238 | Original | August 12, 2009.
Airbus Mandatory Service Bulletin A340-34-5071 | Original | August 12, 2009.
Airbus Service Bulletin A330-34-3206 | 01 | November 12, 2008.
Airbus Service Bulletin A340-34-4200 | 01 | November 12, 2008.
Airbus Service Bulletin A340-34-5068 | Original | December 1, 2008.

Airbus Service Bulletins A330-34-3206, A340-34-4200, and A340-34-5068 describe procedures for replacing Thales Avionics pitot probes, P/N C16195AA, in positions 1, 2, and 3 (captain, first officer, and standby, respectively) with Thales Avionics pitot probes, P/N C16195BA in those positions.

Airbus Mandatory Service Bulletins A330-34-3231, A340-34-4238, and A340-34-5071 describe procedures for replacing Thales Avionics pitot probes, P/N C16195BA, in positions 1 and 3 (captain and standby, respectively) with a Goodrich pitot probe, P/N 0851HL, in those positions.

FAA's Determination and Requirements of This AD

This product has been approved by the aviation authority of another country, and is approved for operation in the United States. Pursuant to our bilateral agreement with the State of Design Authority, we have been notified of the unsafe condition described in the service information referenced above. We are issuing this AD because we evaluated all pertinent information and determined an unsafe condition exists and is likely to exist or develop on other products of the same type design.

We have reviewed the EASA PAD, which proposes to require replacing certain Thales Avionics pitot probes installed on certain Airbus Model A330 and A340 airplanes. Additionally, we have reviewed the numerous airspeed anomalies recently reported on Model A330 and A340 airplanes. Based on our review, we have determined that an unsafe condition exists and immediate airworthiness action for the Model A330 and A340 fleet is warranted.

Therefore, we are issuing this AD to prevent airspeed discrepancies, which could lead to disconnection of the autopilot and/or auto-thrust functions, and reversion to flight control alternate law and consequent increased pilot workload. Depending on the prevailing airplane altitude and weather, this condition, if not corrected, could result in reduced control of the airplane. This AD requires replacing Thales Avionics pitot probes having P/N C16195AA and P/N C16195BA at positions 1 (captain) and 3 (standby) with Goodrich pitot probes having P/N 0851HL at positions 1 and 3. This AD also requires replacing Thales Avionics pitot probes having P/N C16195AA at position 2 (first officer) with Thales Avionics pitot probes having P/N C16195BA at position 2. In addition, this AD provides for optional installation of Goodrich pitot probes having P/N 0851HL at position 2.

We have determined that doing the actions in this new AD terminates the requirements of paragraphs (g)(2) and (h)(2) of AD 2004-03-33, and also is acceptable for compliance with paragraphs (g)(1) and (h)(1) of AD 2004-03-33. We might consider further rulemaking to revise AD 2004-03-33.

This AD corresponds to the EASA PAD, which addresses the identified unsafe condition on Model A330 and A340 airplanes. AD 2004-03-33 is applicable to Model A330 and A340 airplanes and other Airbus airplane models. We might consider further rulemaking to address other Airbus models.

FAA's Justification and Determination of the Effective Date

Airspeed discrepancies could lead to disconnection of the autopilot and/or auto-thrust functions, and reversion to flight control alternate law and consequent increased pilot workload. Depending on the prevailing airplane altitude and weather, this condition, if not corrected, could result in reduced control of the airplane. Because of our requirement to promote safe flight of civil aircraft and thus, the critical need to assure the proper functioning of the pitot probes, and the short compliance time involved with this action, this AD must be issued immediately.

The required compliance time of 120 days is usually sufficient to allow for a brief comment period before adoption of a final rule. In this AD, however, the compliance time of 120 days was selected because of a short-term problem with the availability of sufficient replacement parts; a shorter compliance time might have resulted in the unnecessary removal of airplanes from service pending delivery of replacement parts. Nevertheless, we have determined that immediate adoption of this AD is necessary in this case because of the importance of initiating the required replacements as soon as possible.

Because an unsafe condition exists that requires the immediate adoption of this AD, we find that notice and opportunity for prior public comment hereon are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include “Docket No. FAA-2009-0781; Directorate Identifier 2009-NM-111-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2009-18-08 Airbus: Amendment 39-16004. Docket No. FAA-2009-0781; Directorate Identifier 2009-NM-111-AD.

Effective Date

(a) This AD becomes effective September 8, 2009.

Affected ADs

(b) This AD affects AD 2004-03-33, Amendment 39-13477.

Applicability

(c) This AD applies to the airplanes identified in paragraphs (c)(1), (c)(2), and (c)(3) of this AD, certificated in any category, equipped with Thales Avionics pitot probes having part number (P/N) C16195AA or C16195BA.

(1) Airbus Model A330-201, A330-202, A330-203, A330-223, A330-243, A330-301, A330-302, A330-303, A330-321, A330-322, A330-323, A330-341, A330-342, and A330-343 series airplanes.

(2) Airbus Model A340-211, A340-212, A340-213, A340-311, A340-312, and A340-313 series airplanes.

(3) Airbus Model A340-541 and A340-642 airplanes.

Subject

(d) Air Transport Association (ATA) of America Code 34: Navigation.

Unsafe Condition

(e) This AD results from reports of airspeed indication discrepancies while flying at high altitudes in inclement weather conditions. We are issuing this AD to prevent airspeed discrepancies, which could lead to disconnection of the autopilot and/or auto-thrust functions, and reversion to flight control alternate law and consequent increased pilot workload. Depending on the prevailing airplane altitude and weather, this condition, if not corrected, could result in reduced control of the airplane.

Compliance

(f) You are responsible for having the actions required by this AD performed within the compliance times specified, unless the actions have already been done.

Replacement

(g) Within 120 days after the effective date of this AD, accomplish the applicable replacements required by paragraphs (g)(1) and (g)(2) of this AD.

(1) For airplanes equipped with Thales Avionics pitot probes, P/N C16195AA, in position 2 (first officer): Replace the P/N C16195AA pitot probe with a Thales Avionics pitot probe having P/N C16195BA, in accordance with the Accomplishment Instructions of the applicable service bulletin listed in Table 1 of this AD.

Table 1—Service Bulletins for Replacements Specified in Paragraph (g)(1) of This AD
For model— | Use Airbus Service Bulletin— | Revision— | Dated—
A330-201, -202, -203, -223, -243, -301, -302, -303, -321, -322, -323, -341, -342, and -343 series airplanes | A330-34-3206 | 01 | November 12, 2008.
A340-211, -212, -213, -311, -312, and -313 series airplanes | A340-34-4200 | 01 | November 12, 2008.
A340-541 and -642 airplanes | A340-34-5068 | Original | December 1, 2008.

(2) For airplanes equipped with Thales Avionics pitot probes, P/N C16195AA or P/N C16195BA, in position 1 (captain) or 3 (standby): Replace P/N C16195AA and P/N C16195BA pitot probes with Goodrich pitot probes having P/N 0851HL, in accordance with the Accomplishment Instructions of the applicable service bulletin listed in Table 2 of this AD.

Table 2—Service Bulletins for Replacements Specified in Paragraph (g)(2) of This AD
For model— | Use Airbus Mandatory Service Bulletin— | Revision— | Dated—
A330-201, -202, -203, -223, -243, -301, -302, -303, -321, -322, -323, -341, -342, and -343 series airplanes | A330-34-3231 | Original | August 12, 2009.
A340-211, -212, -213, -311, -312, and -313 series airplanes | A340-34-4238 | Original | August 12, 2009.
A340-541 and -642 airplanes | A340-34-5071 | Original | August 12, 2009.

Optional Replacement

(h) Installing Goodrich pitot probes having P/N 0851HL in position 2 (first officer), in accordance with a method approved by either the Manager, International Branch, ANM-116, Transport Airplane Directorate, FAA; or the European Aviation Safety Agency (EASA) (or its delegated agent); is acceptable for compliance with the requirements of paragraph (g)(1) of this AD.

Credit for Actions Done in Accordance With Previous Issues of Service Bulletins

(i) Accomplishing the replacement required by paragraph (g)(1) of this AD before the effective date of this AD, in accordance with Airbus Service Bulletin A330-34-3206, dated September 14, 2007; or Airbus Service Bulletin A340-34-4200, dated September 14, 2007; as applicable, is acceptable for compliance with the corresponding action required by paragraph (g)(1) of this AD.

Related AD 2004-03-33

(j) Doing the applicable replacements required by this AD terminates the replacements required by paragraphs (g)(2) and (h)(2) of AD 2004-03-33.

(k) Doing the applicable replacements required by this AD is acceptable for compliance with the replacements required by paragraphs (g)(1) and (h)(1) of AD 2004-03-33.

Alternative Methods of Compliance (AMOCs)

(l) The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

Related Information

(m) None.

Material Incorporated by Reference

(n) You must use the applicable service information contained in Table 3 of this AD to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80, e-mail: airworthiness.A330-A340@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Table 3—Material Incorporated by Reference
Service Bulletin | Revision | Date
Airbus Mandatory Service Bulletin A330-34-3231 | Original | August 12, 2009.
Airbus Mandatory Service Bulletin A340-34-4238 | Original | August 12, 2009.
Airbus Mandatory Service Bulletin A340-34-5071 | Original | August 12, 2009.
Airbus Service Bulletin A330-34-3206 | 01 | November 12, 2008.
Airbus Service Bulletin A340-34-4200 | 01 | November 12, 2008.
Airbus Service Bulletin A340-34-5068 | Original | December 1, 2008.

Issued in Renton, Washington, on August 24, 2009.
Ali Bahrami,
Manager, Transport Airplane Directorate, Aircraft Certification Service.

[FR Doc. E9-21368 Filed 9-2-09; 8:45 am]

BILLING CODE 4910-13-P